DEPARTMENT OF THE INTERIOR

Fish and Wildlife Service

Notice of Receipt of Applications for Permit: Correction

AGENCY: Fish and Wildlife Service.

ACTION: Notice: correction.

SUMMARY: We published a notice on November 28, 2000. (65 FR 70931) identifying an application request as PRT-033790. The correct application request is identified as PRT-036053.

DATES: We will accept comments on this notice on or before January 18, 2000.

ADDRESSES: Written data or comments should be submitted to the Director, U.S. Fish and Wildlife Service, Division of Management Authority, 4401 North Fairfax Drive, Room 700, Arlington, Virginia 22203 and must be received by the Director within 30 days of the date of this publication.

FOR FURTHER INFORMATION CONTACT: Charlie Chandler (800) 358-2104. Division of Management Authority. U.S. Fish and Wildlife Service.

SUPPLEMENTARY INFORMATION: On November 28, 2000, we published a notice requesting comments on the receipt of an application for a permit from White Oak Conservation Center, Yulee, FL, to import 2 captive bred cheetahs (Acinonyx jubatus) from Wassenaar Wildlife Breeding Centre, the Netherlands, for the purpose of captive propagation. The permit application mistakenly identified the application request as PRT-033790. The correct application request should be identified as PRT-036053.

Dated: December 20, 2000.
Anna Barry,
Branch of Permits, Division of Management Authority.

[FR Doc. 00-32937 Filed 12-26-00; 8:45 am]

BILLING CODE 4310-55-M